FEDERAL COMMUNICATIONS COMMISSION

47 CFR Part 73

[DA 00-2104; MM Docket No. 00-109; RM-9899]

Radio Broadcasting Services; Ravenwood, MO; Correction

AGENCY: Federal Communications Commission.

ACTION: Final rule; correction.

SUMMARY: This document corrects a final rule concerning Radio Broadcasting Service; Ravenwood, MO published in the Federal Register on September 26, 2000, 65 FR 57745.

DATES: Effective October 30, 2000.

FOR FURTHER INFORMATION CONTACT: Kathleen Scheuerle, Mass Media Bureau, (202) 418-2180.

SUPPLEMENTARY INFORMATION: We published a document amending part 73 in the Federal Register of September 26, 2000, 65 FR 57745 (FR Doc. 00-24647). In that document, the Commission is correcting § 73.202(b) to reflect a change in the community in the Table of FM Allotments from Ravenwood, Florida to Ravenwood, Missouri. In rule FR Doc. 00-24647, published September 26, 2000, 65 FR 57745, make the following corrections:

PART 73—[CORRECTED]

§ 73.202 [Corrected]

1. On page 57745, in the third column, in amendatory instruction 2, in the second line, correct “Florida” to read “Missouri.”

Federal Communications Commission.
John A. Karousos,
Chief, Allocations Branch, Policy and Rules Division, Mass Media Bureau.

[FR Doc. 00-26013 Filed 10-10-00; 8:45 am]

BILLING CODE 6712-01-P